DEPARTMENT OF THE TREASURY

Internal Revenue Service

26 CFR Parts 1 and 602

[REG-146537-06]

RIN 1545-BG08

Income of Foreign Governments and International Organizations; Correction

AGENCY: Internal Revenue Service (IRS), Treasury.

ACTION: Correction to notice of proposed regulations.

SUMMARY: This document contains corrections to a notice of proposed regulations that were published in the Federal Register on Thursday, November 3, 2011. These regulations provide guidance relating to the taxation of the income of foreign governments from investments in the United States. The regulations affect foreign governments that derive income from sources within the United States.

FOR FURTHER INFORMATION CONTACT: David A. Juster, (202) 622-3850 (not toll-free number).

SUPPLEMENTARY INFORMATION:

Background

The notice of proposed rulemaking (REG-146537-06) that is the subject of this correction is under sections 892 and 602 of the Internal Revenue Code.

Need for Correction

As published on November 3, 2011 (76 FR 68119), the notice of proposed rulemaking (REG-146537-06) contains errors that may prove to be misleading and are in need of clarification.

Correction for Publication

Accordingly, the notice of proposed rulemaking (REG-146537-06) that was the subject of FR Doc. 2011-28531 is corrected as follows:

1. On page 68119, column 2, in the preamble under the paragraph heading “Paperwork Reduction Act”, line 17 from the top of the column, the language “the collection of information should be” is corrected to read “the collections of information should be”.

2. On page 68119, column 2, in the preamble under the paragraph heading “Paperwork Reduction Act”, the first full paragraph in the column, lines 1 and 2, the language “Whether the proposed collection of information is necessary for the proper” is corrected to read “Whether the proposed collections of information are necessary for the proper”.

3. On page 68119, column 2, in the preamble under the paragraph heading “Paperwork Reduction Act”, second paragraph in the column, line 2, the language “associate with the proposed collection” is corrected to read “associate with the proposed collections”.

4. On page 68119, column 2, in the preamble under the paragraph heading “Paperwork Reduction Act”, sixth paragraph in the column, lines 1 and 2, the language “The collection of information in this proposed regulation is in §§ 1.892-” is corrected to read “The collections of information in this proposed regulations are in §§ 1.892-”.

5. On page 68119, column 2, in the preamble under the paragraph heading “Paperwork Reduction Act”, sixth paragraph in the column, lines 6 and 7, the language “tax under section 892. The collection of information is voluntary to obtain a” is corrected to read “tax under section 892. The collections of information are voluntary to obtain a”.

6. On page 68119, column 3, in the preamble under the paragraph heading “Background”, fifth line from the bottom of the paragraph, the language “referenced notice of proposed” is corrected to read “reference notice of proposed”.

7. On page 68121, column 1, in the preamble under the paragraph heading “Definition of Commercial Activity”, third line from the bottom of the last paragraph, the language “proposed regulations revised § 1.892-” is corrected to read “proposed regulations revise § 1.892-”.

8. On page 68122, column 1, Paragraph 1. The authority citation, line 2, the language “for parts 1 and 601 continues to read in” is corrected to read “for part 1 continues to read in”.

§ 1.892-5 [Corrected]

9. On page 68122, column 3, § 1.892-5(a)(1), line 2, the paragraph heading (a)(1) the language “definition of term “controlled” is corrected to read “definition of the term “controlled”.

10. On page 68123, column 3, § 1.892-5(d)(5)(i), line 3, the language “(d)(5)(ii) or (d)(5)(iii) of this section, the” is corrected to read “(d)(5)(ii) or paragraph (d)(5)(iii) of this section, the”.

Diane O. Williams,
Federal Register Liaison, Publications and Regulations Branch, Legal Processing Division.

[FR Doc. 2011-30171 Filed 11-22-11; 8:45 am]

BILLING CODE 4830-01-P